DEPARTMENT OF COMMERCE

Foreign-Trade Zones Board

[B-78-2015]

Foreign-Trade Zone (FTZ) 45—Portland, Oregon; Authorization of Production Activity; Lam Research Corporation; Subzone 45H (Semiconductor Production Equipment, Subassemblies and Related Parts); Tualatin and Sherwood, Oregon

On November 6, 2015, the Port of Portland, grantee of FTZ 45, submitted a notification of proposed production activity to the FTZ Board on behalf of Lam Research Corporation, within Subzone 45H at sites in Tualatin and Sherwood, Oregon.

The notification was processed in accordance with the regulations of the FTZ Board (15 CFR part 400), including notice in the Federal Register inviting public comment (80 FR 72412, November 19, 2015). The FTZ Board has determined that no further review of the activity is warranted at this time. The production activity described in the notification is authorized, subject to the FTZ Act and the Board's regulations, including Section 400.14.

Dated: March 8, 2016.
Elizabeth Whiteman,
Acting Executive Secretary.

[FR Doc. 2016-06176 Filed 3-17-16; 8:45 am]

BILLING CODE 3510-DS-P